DEPARTMENT OF ENERGY

Federal Energy Regulatory Commission

[Project No. 2756-066]

Burlington Electric Department; Notice of Intent To File License Application, Filing of Pre-Application Document (Pad), Commencement of Pre-Filing Process, and Scoping; Request for Comments on the Pad and Scoping Document, and Identification of Issues and Associated Study Requests

a. Type of Filing: Notice of Intent to File License Application for a New License and Commencing Pre-filing Process.

b. Project No.: 2756-066.

c. Date Filed: October 31, 2023.

d. Submitted By: Burlington Electric Department (Burlington).

e. Name of Project: Chace Mill Hydroelectric Project (Chace Mill Project).

f. Location: The project is located on the Winooski River in the cities of Burlington and Winooski in Chittenden County, Vermont.

g. Filed Pursuant to: 18 CFR part 5 of the Commission's Regulations.

h. Applicant Contact: James Gibbons, Director of Policy and Planning, Burlington Electric Department, 585 Pine Street, Burlington, VT 05401; Phone at (802) 658-0300, or email at jgibbons@burlingtonelectric.com.

i. FERC Contact: Joshua Dub at (202) 502-8138 or email at Joshua.Dub@ferc.gov.

j. Cooperating Agencies: Federal, state, local, and tribal agencies with jurisdiction and/or special expertise with respect to environmental issues that wish to cooperate in the preparation of the environmental document should follow the instructions for filing such requests described in item o below. Cooperating agencies should note the Commission's policy that agencies that cooperate in the preparation of the environmental document cannot also intervene. See 94 FERC ¶ 61,076 (2001).

k. With this notice, we are initiating informal consultation with: (a) the U.S. Fish and Wildlife Service and the National Oceanic and Atmospheric Administration Fisheries under section 7 of the Endangered Species Act and the joint agency regulations thereunder at 50 CFR part 402; and (b) the State Historic Preservation Office, as required by section 106, National Historic Preservation Act, and the implementing regulations of the Advisory Council on Historic Preservation at 36 CFR 800.2.

l. With this notice, we are designating Burlington as the Commission's non-federal representative for carrying out informal consultation pursuant to section 7 of the Endangered Species Act and section 106 of the National Historic Preservation Act.

m. Burlington filed with the Commission a Pre-Application Document (PAD), including a proposed process plan and schedule, pursuant to 18 CFR 5.6 of the Commission's regulations.

n. A copy of the PAD may be viewed on the Commission's website (http://www.ferc.gov) using the “eLibrary” link. Enter the docket number, excluding the last three digits in the docket number field, to access the document. For assistance, contact FERC Online Support at FERCOnlineSupport@ferc.gov or call toll-free, (866) 208-3676 or TTY, (202) 502-8659.

You may register online at https://ferconline.ferc.gov/FERCOnline.aspx to be notified via email of new filings and issuances related to this or other pending projects. For assistance, contact FERC Online Support.

o. With this notice, we are soliciting comments on the PAD and Commission staff's Scoping Document 1 (SD1), as well as study requests. All comments on the PAD and SD1, and study requests should be sent to the address above in paragraph h. In addition, all comments on the PAD and SD1, study requests, requests for cooperating agency status, and all communications to and from staff related to the merits of the potential application must be filed with the Commission.

The Commission strongly encourages electronic filing. Please file all documents using the Commission's eFiling system at https://ferconline.ferc.gov/FERCOnline.aspx. Commenters can submit brief comments up to 6,000 characters, without prior registration, using the eComment system at https://ferconline.gov/QuickComment.aspx. You must include your name and contact information at the end of your comments. For assistance, please contact FERC Online Support at FERCOnlineSupport@ferc.gov or call toll-free, (866) 208-3676 or TTY, (202) 502-8659. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-2756-066.

All filings with the Commission must bear the appropriate heading: “Comments on Pre-Application Document,” “Study Requests,” “Comments on Scoping Document 1,” “Request for Cooperating Agency Status,” or “Communications to and from Commission Staff.” Any individual or entity interested in submitting study requests, commenting on the PAD or SD1, and any agency requesting cooperating status must do so by February 27, 2024.

p. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

q. Pursuant to the National Environmental Policy Act (NEPA), Commission staff will prepare either an environmental assessment (EA) or an environmental impact statement (EIS) (collectively referred to as the “NEPA document”) that describes and evaluates the probable effects, including an assessment of the site-specific and cumulative effects, if any, of the proposed action and alternatives. The Commission's scoping process will help determine the required level of analysis and satisfy the NEPA scoping requirements, irrespective of whether the Commission issues an EA or EIS.

Scoping Meetings

Commission staff will hold two scoping meetings for the project to receive input on the scope of the NEPA document. A daytime meeting will be held at 9:00 a.m. on January 29, 2024, at the Burlington Electric Department's Spark Space, in Burlington, Vermont, and will focus on the concerns of Indian Tribes, resource agencies, and non-governmental organizations (NGOs). An evening meeting will be held at 6:00 p.m. on January 29, 2024, at the Burlington Electric Department's Spark Space, in Burlington, Vermont, and will focus on receiving input from the public. We invite all interested agencies, Indian Tribes, non-governmental organizations, and individuals to attend one or both meetings. The times and locations of these meetings are as follows:

Daytime Scoping Meeting

Date: Monday, January 29, 2024.

Time: 9:00 a.m. EST.

Place: Burlington Electric Department, Spark Space.

Address: 585 Pine Street, Burlington, VT 05401.

Phone: (802) 865-0300.

Evening Scoping Meeting

Date: Monday, January 29, 2024.

Time: 6:00 p.m. EST.

Place: Burlington Electric Department, Spark Space.

Address: 585 Pine Street, Burlington, VT 05401.

Phone: (802) 865-0300.

Copies of the SD1 outlining the proposed date and subject areas to be addressed in the NEPA document were distributed to the individuals and entities on the Commission's mailing list and Burlington's distribution list. Copies of SD1 may be viewed on the web at http://www.ferc.gov, using the “eLibrary” link. Follow the directions for accessing information in paragraph n above. Based on all oral and written comments, a Scoping Document 2 (SD2) may be issued. SD2 may include a revised process plan and schedule, as well as a list of issues, identified through the scoping process.

Environmental Site Visit

The potential applicant and Commission staff will conduct an environmental site visit of the project. All interested individuals, agencies, Tribes, and NGOs are invited to attend. Please RSVP Mr. James Gibbons of the Burlington Electric Department via email at jgibbons@burlingtonelectric.com or by phone at (802) 865-0300 on or before January 22, 2024, if you plan to attend the environmental site visit. The time and location of the environmental site visit is as follows:

Chace Mill Project Site Visit

Date: Monday, January 29, 2024.

Time: 1:00 p.m. EST.

Place: Burlington Electric Department.

Address: 585 Pine Street, Burlington, VT 05401.

Participants should meet at the Burlington Electric Department's parking lot, located at 585 Pine Street, Burlington. From there, Burlington will provide transportation to the project via shuttle. All participants are responsible for their own transportation to the Burlington Electric Department's parking lot, and should wear sturdy, closed-toe shoes or boots.

Meeting Objectives

At the scoping meetings, Commission staff will: (1) initiate scoping of the issues; (2) review and discuss existing conditions; (3) review and discuss existing information and identify preliminary information and study needs; (4) review and discuss the process plan and schedule for pre-filing activity that incorporates the time frames provided for in Part 5 of the Commission's regulations and, to the extent possible, maximizes coordination of federal, state, and tribal permitting and certification processes; and (5) discuss the potential of any federal or state agency or Indian tribe to act as a cooperating agency for development of an environmental document.

Meeting participants should come prepared to discuss their issues and/or concerns. Please review the PAD in preparation for the scoping meetings. Directions on how to obtain a copy of the PAD and SD1 are included in item n of this document.

Meeting Procedures

Commission staff are moderating the scoping meetings. The meetings are recorded by an independent stenographer and become part of the formal record of the Commission proceeding on the project. Individuals, NGOs, Indian Tribes, and agencies with environmental expertise and concerns are encouraged to attend the meeting and to assist the staff in defining and clarifying the issues to be addressed in the NEPA document.

Dated: December 29, 2023.
Debbie-Anne A. Reese,
Deputy Secretary.

[FR Doc. 2024-00031 Filed 1-4-24; 8:45 am]

BILLING CODE 6717-01-P